FEDERAL COMMUNICATIONS COMMISSION

Public Information Collections Approved by Office of Management and Budget

October 2, 2006.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION:

OMB Control No.: 3060-0921.

OMB Approval Date: 09/13/2006.

Expiration Date: 09/30/2009.

Title: Petitions for LATA Boundary Modification for the Deployment of Advanced Services.

Form No.: N/A.

Estimated Annual Burden: 1 response; 8 total annual burden hours.

Needs and Uses: Bell Operating Companies (BOCs) that petition for LATA boundary modifications to encourage the deployment of advanced service on a reasonable and timely basis are requested to include information in accordance with specified criteria. The Commission will use this information to review the petitions.

OMB Control No.: 3060-0710.

OMB Approval Date: 09/21/2006.

Expiration Date: 12/31/2006.

Title: Part 36—Separations.

Form No.: N/A.

Estimated Annual Burden: 5,788 responses; 58,418 total annual burden hours.

Needs and Uses: In order to allow determination of the study areas that are entitled to an expense adjustment, and the wire centers that are entitled to high-cost universal service support, incumbent and competitive telecommunications carriers must provide certain data to the National Exchange Carrier Association or the Universal Service Administrative Company annually and/or quarterly. Local telecommunications carriers who want to participate in the federal universal service support program must make certain informational showings to demonstrate eligibility.

Federal Communications Commission.
Marlene H. Dortch,
Secretary.

[FR Doc. E6-16831 Filed 10-10-06; 8:45 am]

BILLING CODE 6712-01-P